DEPARTMENT OF TRANSPORTATION

Federal Aviation Administration

14 CFR Part 95

[Docket No. 30486; Amdt. No. 460]

IFR Altitudes; Miscellaneous Amendments

AGENCY: Federal Aviation Administration (FAA), DOT.

ACTION: Final rule.

SUMMARY: This amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

DATES: Effective Date: 0901 UTC, April 13, 2006.

FOR FURTHER INFORMATION CONTACT: Donald P. Pate, Flight Procedure Standards Branch (AMCAFS-420), Flight Technologies and Programs Division, Flight Standards Service, Federal Aviation Administration, Mike Monroney Aeronautical Center, 6500 South MacArthur Blvd. Oklahoma City, OK 73169 (Mail Address: P.O. Box 25082 Oklahoma City, OK 73125) telephone: (405) 954-4164.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace, Navigation (air).

Issued in Washington, DC, on March 10, 2006.
James J. Ballough,
Director, Flight Standards Service.

Adoption of the Amendment

Accordingly, pursuant to the authority delegated to me by the Administrator, part 95 of the Federal Aviation Regulations (14 CFR part 95) is amended as follows effective at 0901 UTC, February 16, 2006.

PART 95—[AMENDED]

1. The authority citation for part 95 continues to read as follows:

Authority: 49 U.S.C. 106(g), 40103, 40106, 40113, 40114, 40120, 44502, 44514, 44719, 44721.

2. Part 95 is amended to read as follows:

Revisions to IFR Altitudes & Changeover Points
[Amendment 460 Effective Date April 13, 2006]
From | To | MEA | MAA
§ 95.4000 High Altitude RNAV Routes
§ 95.4019 RNAV Route Q19 Is Added To Read
Pless, IL FIX | Nashville, TN VORTAC | #*20000 | 45000
*18000-GNSS MEA
#DME/DME/IRU MEA
§ 95.4021 RNAV Route Q21 Is Added To Read
Jonez, OK FIX | Razorback, AR VORTAC | #*18000 | 45000
*18000-GNSS MEA
#DME/DME/IRU MEA
§ 95.4023 RNAV Route Q23 Is Added To Read
Fort Smith, AR VORTAC | Razorback, AR VORTAC | #*18000 | 45000
*18000-GNSS MEA
#DME/DME/IRU MEA
§ 95.4025 RNAV Route Q25 Is Added To Read
Meeow, AR FIX | Walnut Ridge, AR VORTAC | #*20000 | 45000
*18000-GNSS MEA
#DME/DME/IRU MEA
Walnut Ridge, AR VORTAC | Pocket City, IN VORTAC | #*20000 | 45000
*18000-GNSS MEA
#DME/DME/IRU MEA
§ 95.4026 RNAV Route Q26 Is Added To Read
Walnut Ridge, AR VORTAC | Devac, AL FIX | #*20000 | 45000
*18000-GNSS MEA
#DME/DME/IRU MEA
§ 95.4027 RNAV Route Q27 Is Added To Read
Fort Smith, AR VORTAC | Zalda, AR FIX | #*18000 | 45000
*18000-GNSS MEA
#DME/DME/IRU MEA
§ 95.4028 RNAV Route Q28 Is Added To Read
Grazn, AR FIX | Pocket City, IN VORTAC | #*20000 | 45000
*18000-GNSS MEA
#DME/DME/IRU MEA
§ 95.4029 RNAV Route Q29 Is Added To Read
Hares, LA FIX | Memphis, TN VORTAC | #*18000 | 45000
*18000-GNSS MEA
#DME/DME/IRU MEA
Memphis, TN VORTAC | Pocket City, IN VORTAC | #*18000 | 45000
*18000-GNSS MEA
#DME/DME/IRU MEA
§ 95.4030 RNAV Route Q30 Is Added To Read
Sidon, MS VORTAC | Vulcan, AL VORTAC | #*18000 | 45000
*18000-GNSS MEA
#DME/DME/IRU MEA
§ 95.4031 RNAV Route Q31 Is Added To Read
Dhart, AR FIX | Marvell, AR VOR/DME | #*18000 | 45000
*18000-GNSS MEA
#DME/DME/IRU MEA
Marvell, AR VOR/DME | Pocket City, IN VORTAC | #*18000 | 45000
*18000-GNSS MEA
#DME/DME/IRU MEA
§ 95.4032 RNAV Route Q32 Is Added To Read
El Dorado, AR VORTAC | Nashville, TN VORTAC | #*20000 | 45000
*18000-GNSS MEA
#DME/DME/IRU MEA
Nashville, TN VORTAC | Swapp, TN FIX | #*20000 | 45000
*18000-GNSS MEA
#DME/DME/IRU MEA
§ 95.4033 RNAV Route Q33 Is Added To Read
Dhart, AR FIX | Little Rock, AR VORTAC | #*20000 | 45000
*18000-GNSS MEA
#DME/DME/IRU MEA
Little Rock, AR VORTAC | Prowl, MO FIX | #*20000 | 45000
*18000-GNSS MEA
#DME/DME/IRU MEA
§ 95.4034 RNAV Route Q34 Is Added To Read
Texarkana, AR VORTAC | Memphis, TN VORTAC | #*24000 | 45000
*18000-GNSS MEA
#DME/DME/IRU MEA
Memphis, TN VORTAC | Swapp, TN FIX | #*24000 | 45000
*18000-GNSS MEA
#DME/DME/IRU MEA
§ 95.4036 RNAV Route Q36 Is Added To Read
Razorback, AR VORTAC | Nashville, TN VORTAC | #*20000 | 45000
*18000-GNSS MEA
#DME/DME/IRU MEA
Nashville, TN VORTAC | Swapp, TN FIX | #*20000 | 45000
*18000-GNSS MEA
#DME/DME/IRU MEA
§ 95.4038 RNAV Route Q38 Is Added To Read
Rokit, TX FIX | Besom, AL FIX | #*18000 | 45000
*18000-GNSS MEA
#DME/DME/IRU MEA
§ 95.4040 RNAV Route Q40 Is Added To Read
Alexandria, LA VORTAC | Misle, AL FIX | #*18000 | 45000
*18000-GNSS MEA
#DME/DME/IRU MEA

From | To | MEA
§ 95.6001 Victor Routes—U.S.
§ 95.6012 VOR Federal Airway V12 Is Amended To Read in Part
Harrisburg, PA VORTAC | Pottstown, PA VORTAC | 3000
§ 95.6060 VOR Federal Airway V60 Is Amended To Read in Part
Otto, NM VOR | Fort Union, NM VORTAC | 10000
§ 95.6190 VOR Federal Airway V190 Is Amended To Read in Part
Acoma, NM FIX | *Albuquerque, NM VORTAC | 9000
*11500-MCA Albuquerque, NM VORTAC, NE BND
Albuquerque, NM VORTAC | Renco, NM FIX | 13000
Renco, NM FIX | *Fort Union, NM VORTAC | 12000
*11300-MCA Fort Union, NM VORTAC, SW BND
Fort Union, NM VORTAC | Dalhart, TX VORTAC | *10000
*9200-MOCA
§ 95.6263 VOR Federal Airway V263 Is Amended To Read in Part
Santa Fe, NM VORTAC | *Fort Union, NM VORTAC | 12500
*10900-MCA Fort Union, NM VORTAC, N BND
*11300-MCA Fort Union, NM VORTAC, W BND
Fort Union, NM VORTAC | Cimarron, NM VORTAC | *12000
*11100-MOCA
§ 95.6611 VOR Federal Airway V611 Is Amended To Read in Part
Santa Fe, NM VORTAC | *Fort Union, NM VORTAC | 12500
*10900-MCA Fort Union, NM VORTAC, N BND
*11300-MCA Fort Union, NM VORTAC, W BND
Fort Union, NM VORTAC | Cimarron, NM VORTAC | *12000
*11100-MOCA

From | To | MEA | MAA
§ 95.7001 Jet Routes
§ 95.7008 Jet Route J8 Is Amended To Read in Part
Gallup, NM VORTAC | Bukko, NM FIX | 18000 | 45000
Fort Union, NM VORTAC | Borger, TX VORTAC | 18000 | 45000
§ 95.7018 Jet Route J18 Is Amended To Read in Part
Albuquerque, NM VORTAC | Fort Union, NM VORTAC | 18000 | 45000
Fort Union, NM VORTAC | Garden City, KS VORTAC | 18000 | 45000
§ 95.7019 Jet Route J19 Is Amended To Read in Part
Zuni, NM VORTAC | Bukko, NM FIX | #18000 | 45000
#MEA is established with a gap in navigation signal coverage
Bukko, NM FIX | Fort Union, NM VORTAC | 18000 | 45000
Fort Union, NM VORTAC | Liberal, KS VORTAC | 18000 | 45000
§ 95.7058 Jet Route J58 Is Amended To Read in Part
Rattlesnake, NM VORTAC | Fort Union, NM VORTAC | 18000 | 45000
Fort Union, NM VORTAC | Panhandle, TX VORTAC | 18000 | 45000
§ 95.7076 Jet Route J76 Is Amended To Read in Part
Tuba City, AZ VORTAC | Fort Union, NM VORTAC | #27000 | 45000
#MEA is established with a gap in navigation signal coverage
#MEA gap
Fort Union, NM VORTAC | Tucumcari, NM VORTAC | 18000 | 45000
§ 95.7104 Jet Route J104 Is Amended To Read in Part
Socorro, NM VORTAC | Fort Union, NM VORTAC | 18000 | 45000
Fort Union, NM VORTAC | Pueblo, CO VORTAC | 18000 | 45000
§ 95.7244 Jet Route J244 Is Amended To Read in Part
Fort Union, NM VORTAC | Zuni, NM VORTAC | 21000 | 45000
Zuni, NM VORTAC | Phoenix, AZ VORTAC | 19000 | 45000

From | To | Changeover points: Distance | Changeover points: From
§ 95.8003 VOR Federal Airway Changeover Points Airway Segment Is Amended To Modify Changeover Point V190
Albuquerque, NM VORTAC | Fort Union, NM VORTAC | 38 | Albuquerque
Is Amended To Modify Changeover Point V263
Santa Fe, NM VORTAC | Fort Union, NM VORTAC | 21 | Santa Fe
Fort Union, NM VORTAC | Cimarron, NM VORTAC | 28 | Fort Union
Is Amended To Modify Changeover Point V611
Santa Fe, NM VORTAC | Fort Union, NM VORTAC | 21 | Santa Fe
Fort Union, NM VORTAC | Cimarron, NM VORTAC | 28 | Fort Union
§ 95.8005 Jet Routes Changeover Points Airway Segment Is Amended To Modify Changeover Point J8
Gallup, NM VORTAC | Fort Union, NM VORTAC | 101 | Gallup
Is Amended To Modify Changeover Point J244
Fort Union, NM VORTAC | Zuni, NM VORTAC | 86 | Fort Union

[FR Doc. 06-2585 Filed 3-16-06; 8:45 am]

BILLING CODE 4910-13-P